DEPARTMENT OF THE INTERIOR

Fish and Wildlife Service

Information Collection To Be Submitted to the Office of Management and Budget (OMB) for Approval Under the Paperwork Reduction Act (PRA)

ACTION: Correction.

SUMMARY: The U.S. Fish and Wildlife Service (Service) published an Information Collection Notice on September 5, 2000 (65 FR 53737), for the Federal Aid Grants Application Booklet. It stated in “Action” that it was for an Information Collection Renewal, it is a New Information Collection, not a renewal.

Dated: September 5, 2000.
Rebecca A. Mullin,
Fish and Wildlife Service Information Collection Officer.

[FR Doc. 00-23140 Filed 9-7-00; 8:45 am]

BILLING CODE 4310-55-M